DEPARTMENT OF DEFENSE

Department of the Army

U.S. Army Science Board Partially Closed Meeting Notice

AGENCY: Department of the Army, DoD.

ACTION: Notice of open meeting.

SUMMARY: The Department of the Army is publishing this notice to announce the following Federal advisory committee meeting of the U.S. Army Science Board (ASB) Winter Plenary. This meeting is open to the public.

DATES: Thursday, January 30, 2025, at 08:00 a.m.-11:00 a.m.

ADDRESSES: Yulista Conference Center, 8600 Advanced Gateway SW, Huntsville AL 35808.

FOR FURTHER INFORMATION CONTACT: Army Science Board, Designated Federal Officer, 2530 Crystal Drive, Suite, 7098, Arlington, VA 22202; Ms. Heather J. Gerard, the ASB `s Designated Federal Officer (DFO), at (703) 545-8652 or email: heather.j.gerard.civ@army.mil and Mr. Vinson L. Bullard, the ASB's Alternate Designated Federal Official at (703) 545-8647 or email: vinson.l.bullard.civ@army.mil.

SUPPLEMENTARY INFORMATION: Due to circumstances beyond the control of the Designated Federal Officer for the U.S. Army Science Board and the Department of Defense, the U.S. Army Science Board was unable to provide public notification required by 41 CFR 102-3.150(a) concerning its January 30, 2025, meeting. Accordingly, the Advisory Committee Management Officer for the Department of Defense, pursuant to 41 CFR 102-3.150(b), waives the 15-calendar day notification requirement.

The meeting will be held Pursuant to the Federal Advisory Committee Act (5 U.S.C. 1001-1014), the Government in the Sunshine Act of 1976 (5 U.S.C. 552b, as amended) and Title 41, Code of Federal Regulations (CFR) 102-3.140 through 160.

Purpose of Meeting: The purpose of the meeting is for ASB members to review, deliberate, and vote on the findings and recommendations presented for one Fiscal Year (FY) 2024 study and one FY 2025 study.

Agenda: The board will present findings and recommendations for deliberation and vote on the following studies:

“Data-Centric Command and Control (C2)”. The purpose of this FY2024 study is to assess the Army's implementation of a dynamic data-centric C2 framework in multi-domain operations. This briefing will include Controlled Unclassified Information (CUI) that contains trade secrets information exempted under 5 U.S.C. 552b(c)(4) and therefore will be presented in a closed session from 8:00 a.m.-9:00 a.m.

“An Assessment of the Army's Capability to provide Combat-Ready Forces”. The purpose of this study is to evaluate the U.S. Army's current organization and capability to provide combat-ready medical forces following the reorganization of the Department of Defense (DoD) medical enterprise under the Defense Health Agency (DHA). This FY25 study is unclassified and will be presented in an open session from 9:30 a.m.-10:30 a.m.

Public Accessibility to the Meeting: Pursuant to 5 U.S.C. 552b, as amended, and 41 CFR 102-3.140 through 102-3.165, and subject to the availability of space, this meeting is open to the public. Registration of members of the public who wish to attend the meeting will begin at 07:45 a.m. on the day of the meeting. Seating is limited and is on a first-to-arrive basis. Attendees will be asked to provide their name, title, affiliation, and contact information to include email address and daytime telephone number at registration. Any interested person may attend the meeting, file written comments or statements with the committee, or make verbal comments from the floor during the public meeting, at the times, and in the manner, permitted by the committee, as set forth below.

Special Accommodations: The meeting venue is fully handicap accessible, with wheelchair access. Individuals requiring special accommodations to access the public meeting or seeking additional information about public access procedures, should contact Mr. Vinson Bullard, the Alternate Designated Federal Official (ADFO) for the ASB, at the email addresses or telephone numbers listed in the FOR FURTHER INFORMATION CONTACT section, at least five (5) business days prior to the meeting so that appropriate arrangements can be made.

Written Comments or Statements: Pursuant to 41 CFR 102-3.105(j) and 102-3.140(c) and 5 U.S.C. 1009(a)(3), the public or interested organizations may submit written comments or statements to the ASB about its mission and/or the topics to be addressed in this public meeting. Written comments or statements should be submitted to Mr. Vinson Bullard, the ADFO of the ASB, via electronic mail, the preferred mode of submission, at the addresses listed in the FOR FURTHER INFORMATION CONTACT section in the following formats: Adobe Acrobat or Microsoft Word. The comment or statement must include the author's name, title, affiliation, address, and daytime telephone number. Written comments or statements being submitted in response to the agenda set forth in this notice must be received by the ADFO at least five (5) business days prior to the meeting so that they may be made available to the ASB for its consideration prior to the meeting. Written comments or statements received after this date may not be provided to the ASB until its next meeting. Please note that because the ASB operates under the provisions of the Federal Advisory Committee Act, as amended, all written comments will be treated as public documents and will be made available for public inspection.

James W. Satterwhite Jr.,
Army Federal Register Liaison Officer.

[FR Doc. 2025-02125 Filed 1-31-25; 8:45 am]

BILLING CODE 3711-CC-P